DEPARTMENT OF TRANSPORTATION

National Highway Traffic Safety Administration

49 CFR Part 572

[Docket No. NHTSA-2004-18865]

RIN 2127-AJ16

Anthropomorphic Test Devices; SID-IIsFRG Side Impact Crash Test Dummy

AGENCY: National Highway Traffic Safety Administration (NHTSA), Department of Transportation.

ACTION: Extension of comment period.

SUMMARY: On December 8, 2004, NHTSA published a notice of proposed rulemaking (NPRM) in the Federal Register that proposed to amend 49 CFR part 572 to add specifications and qualification requirements for a 5th percentile adult female test dummy for use in vehicle side impact tests. In that NPRM, NHTSA established a March 8, 2005, deadline for submission of written comments. NHTSA has received a request from the Alliance of Automobile Manufacturers to extend the comment period “to facilitate a comprehensive technical evaluation of that test device and allow manufacturers the opportunity to perform necessary fleet testing with the proposed test device.” In response to that request, NHTSA is extending the comment period to April 12, 2005.

DATES: Comments must be received by April 12, 2005. Comments received after that date will be considered to the extent possible.

ADDRESSES: You may submit comments (identified by the DOT DMS Docket Number) by any of the following methods:

Web Site: http://dms.dot.gov. Follow the instructions for submitting comments on the DOT electronic docket site.

Fax: 1-202-493-2251.

Mail: Docket Management Facility; U.S. Department of Transportation, 400 Seventh Street, SW., Nassif Building, Room PL-401, Washington, DC 20590-0001.

Hand Delivery: Room PL-401 on the plaza level of the Nassif Building, 400 Seventh Street, SW., Washington, DC, between 9 a.m. and 5 p.m., Monday through Friday, except Federal holidays.

Federal eRulemaking Portal: Go to http://www.regulations.gov. Follow the online instructions for submitting comments.

Instructions: All submissions must include the agency name and docket number or Regulatory Identification Number (RIN) for the rulemaking to which you are commenting. For detailed instructions on submitting comments and additional information on the rulemaking process, see the Public Participation heading of the Supplementary Information section of this document. Note that all comments received will be posted without change to http://dms.dot.gov, including any personal information provided. Please see the Privacy Act discussion under the Public Participation heading.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Stan Backaitis, NHTSA Office of Crashworthiness Standards (202) 366-4912, or Deirdre Fujita, NHTSA Office of Chief Counsel (telephone (202) 366-2992). Both of these officials may be reached at 400 Seventh St., SW., Washington, DC 20590.

SUPPLEMENTARY INFORMATION: On December 8, 2004 (69 FR 70947; Docket No. 18865), the agency published an NPRM proposing to add specifications and qualification requirements for a 5th percentile adult female side impact crash test dummy to NHTSA's regulation on anthropomorphic test devices (49 CFR part 572). The test dummy, called the SID-IIsFRG, was part of an NPRM that NHTSA published in May 2004 that proposed to upgrade FMVSS No. 214, “Side Impact Protection.” The NPRM on FMVSS No. 214 proposed to require that all passenger vehicles with a gross vehicle weight rating of up to 4,536 kilograms (10,000 pounds) protect front seat occupants against head, thoracic, abdominal and pelvic injuries in a vehicle-to-pole test simulating a vehicle crashing sideways into narrow fixed objects like telephone poles and trees (69 FR 27990, May 17, 2004; Docket 2004-17694). The NPRM proposed that compliance with the pole test would be determined in tests using the SID-IIsFRG, and in tests using a new test dummy representing mid-size adult males (the “ES-2re” crash test dummy).

The comment period for the NPRM on the SID-IIsFRG closes March 8, 2005. The Alliance of Automobile Manufacturers has petitioned to extend the comment period “until mid 2005 to facilitate a comprehensive technical evaluation of that test device and allow manufacturers the opportunity to perform necessary fleet testing with the proposed test device. Further, the requested extension aligns the comment closing date with that requested by the Alliance in its October 14, 2004 petition.” That October 14, 2004, petition of the Alliance was to extend, for eight months, the comment periods for the FMVSS No. 214 NPRM and for an NPRM on specifications for the ES-2re (which was published September 15, 2004; 69 FR 55550; Docket No. 18864). On January 12, 2005, in response to the petition, NHTSA reopened the comment period for those NPRMs for 90 days (70 FR 2105; Docket No. 17694, 18864). The 90-day period closes April 12, 2005.

We are extending the comment period for the SID-IIsFRG NPRM from March 8, 2005, to April 12, 2005, to align the comment closing date with those of the related NPRMs on FMVSS No. 214 and the ES-2re test dummy. The extended comment period gives interested parties additional time to submit comments without unnecessarily delaying key decisions by NHTSA about the FMVSS No. 214 rulemaking and without overly delaying the potential societal benefits associated with a final rule.

Public Participation

How Do I Prepare and Submit Comments?

Your comments must be written and in English. To ensure that your comments are correctly filed in the Docket, please include the appropriate docket number in your comments.

Your comments must not be more than 15 pages long. (49 CFR 553.21). NHTSA established this limit to encourage you to write your primary comments in a concise fashion. However, you may attach necessary additional documents to your comments. There is no limit on the length of the attachments.

Please submit two copies of your comments, including the attachments, to Docket Management at the address given above under ADDRESSES.

You may also submit your comments to the docket electronically by logging onto the Dockets Management System Web site at http://dms.dot.gov. Click on “Help & Information” or “Help/Info” to obtain instructions for filing the document electronically.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation (49 CFR part 512).

Will the Agency Consider Late Comments?

NHTSA will consider all comments that Docket Management receives before the close of business on the comment closing date indicated above under DATES. To the extent possible, the agency will also consider comments that Docket Management receives after that date. If Docket Management receives a comment too late for the agency to consider it in developing a final rule (assuming that one is issued), the agency will consider that comment as an informal suggestion for future rulemaking action.

How Can I Read the Comments Submitted by Other People?

You may read the comments received by Docket Management at the address given above under ADDRESSES. The hours of the Docket are indicated above in the same location.

You may also see the comments on the Internet. To read the comments on the Internet, take the following steps:

1. Go to the Docket Management System (DMS) Web page of the Department of Transportation (http://dms.dot.gov/).

2. On that page, click on “search.”

3. On the next page (http://dms.dot.gov/search/), type in the five-digit docket number shown at the beginning of this document. Example: If the docket number were “NHTSA-2004-12345,” you would type “12345.” After typing the docket number, click on “search.”

4. On the next page, which contains docket summary information for the docket you selected, click on the desired comments. You may download the comments. Although the comments are imaged documents, instead of word processing documents, the “pdf” versions of the documents are word searchable.

Please note that even after the comment closing date, NHTSA will continue to file relevant information in the Docket as it becomes available. Further, some people may submit late comments. Accordingly, the agency recommends that you periodically check the Docket for new material.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

Authority: 49 U.S.C. 322, 30111, 30115, 30117 and 30166; delegation of authority at 49 CFR 1.50.

Issued on March 2, 2005.
Stephen R. Kratzke,
Associate Administrator for Rulemaking.

[FR Doc. 05-4432 Filed 3-7-05; 8:45 am]

BILLING CODE 4910-59-P